DEPARTMENT OF THE TREASURY

Submission for OMB Review; Comment Request

February 3, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before March 11, 2009, to be assured of consideration.

Internal Revenue Service (IRS)

OMB Number: 1545-1953.

Type of Review: Revision.

Title: REG-140029-07 Substantiation and Reporting Requirements for Cash and Noncash Charitable Contributions and Deductions—(Previously Notice 2006-96).

Description: The information collected under § 170(f)(11) will be used by taxpayers to substantiate claimed charitable contribution deductions in excess of $500; some of the information will be required to be included with the taxpayer's tax return. The information collected under § 170(f)(17) will be used by taxpayers to substantiate claimed charitable contributions of cash, check, or other monetary gifts; the information must be maintained by taxpayers but will not be required to be included with the taxpayer's return.

Respondents: Individuals or Households.

Estimated Total Burden Hours: 226,419 hours.

Clearance Officer: Glenn P. Kirkland, (202) 622-3428, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-2630 Filed 2-6-09; 8:45 am]

BILLING CODE 4830-01-P